DEPARTMENT OF HEALTH AND HUMAN SERVICES

Centers for Disease Control and Prevention

Disease, Disability, and Injury Prevention and Control Special Emphasis Panel (SEP): Family History and Diamond Blackfan Anemia, DD11-010, Initial Review

Correction: This notice was published in the Federal Register on January 21, 2011, Volume 76, Number 14, Page 3909. The date for the aforementioned meeting has been changed to the following:

DATES: April 27, 2011 (Closed).

Contact Person for More Information: Michael Dalmat, Dr.P.H., Scientific Review Officer, CDC, National Center for Chronic Disease Prevention and Health Promotion, Office of the Director, Extramural Research Program Office, 4770 Buford Highway, NE., Mailstop K-92, Atlanta, Georgia 30341, Telephone: (770) 488-6423, E-mail: MED1@CDC.GOV.

The Director, Management Analysis and Services Office, has been delegated the authority to sign Federal Register notices pertaining to announcements of meetings and other committee management activities, for both the Centers for Disease Control and Prevention and the Agency for Toxic Substances and Disease Registry.

Dated: March 7, 2011.
Elaine L. Baker,
Director, Management Analysis and Services Office, Centers for Disease Control and Prevention.

[FR Doc. 2011-5759 Filed 3-11-11; 8:45 am]

BILLING CODE 4163-18-P